DEPARTMENT OF HEALTH AND HUMAN SERVICES

Administration on Community Living

Proposed Information Collection Activity; Comment Request; Protection and Advocacy Annual Program Performance Report and Statement of Goals and Priorities

AGENCY: Office of Program Support, Administration on Intellectual and Developmental Disabilities, Administration on Disability, Administration on Community Living, HHS.

ACTION: Notice.

SUMMARY: This notice seeks to collect comments on revisions to an existing collection: Annual Protection and Advocacy Systems Program Performance Report (0985-0027). State Protection and Advocacy (P&A) Systems in each State and Territory provide individual legal advocacy, systemic advocacy, monitoring and investigations to protect and advance the rights of people with developmental disabilities, using funding administered by the Administration on Intellectual and Developmental Disabilities, Administration on Disability, Administration on Community Living, HHS.

The Developmental Disabilities and Bill of Rights Act, 42 U.S.C. 15044, requires each P&A to annually prepare a report that describes the activities and accomplishments of the system during the preceding fiscal year and a Statement of Goals and Priorities (SGP) (0985-0034) for each coming fiscal year. P&As are required to annually report on “the activities, accomplishments, and expenditures of the system during the preceding fiscal year, including a description of the system's goals, the extent to which the goals were achieved, barriers to their achievement, the process used to obtain public input, the nature of such input, and how such input was used.” To meet it statutory reporting requirements, P&As have used separate forms for submitting the annual report (0985-0027) and the SGP (0985-0034). It is proposed that the two be combined by creating the Protection and Advocacy Annual Program Performance Report and Statement of Goals and Priorities form. By combining the forms, P&As will have a reduced burden by submitting only one report annually. The combined form will also allow federal reviewers to analyze patterns more readily between goals and priority setting and program performance. The annual program performance report (PPR) and SGP is reviewed by federal staff for compliance and program outcomes. Information in the PPRs and SGPs is analyzed to create a national profile of programmatic compliance, program outcomes, and goals and priorities for P&A Systems. These profiles are used to track accomplishments against goals, develop technical assistance, and determine compliance with Federal requirements. Information collected in the unified report also will inform AIDD of trends in P&A advocacy, collaboration with other federally-funded entities, and best practices for efficient use of federal funds.

DATES: Submit written comments on the collection of information by October 24, 2016.

ADDRESSES: Submit written comments on the collection of information by email to: Clare.Huerta@acl.hhs.gov.

FOR FURTHER INFORMATION CONTACT: Clare Huerta, Administration on Community Living, Administration on Intellectual and Developmental Disabilities, Office of Program Support, 330 C Street SW., DC, Washington, DC 20201, (202) 795-7301.

SUPPLEMENTARY INFORMATION: In compliance with the requirements of Section 506 (c)(2)(A) of the Paperwork Reduction Act of 1995, the Administration on Community Living is soliciting public comment on the specific aspects of the information collection described above. The form is available at http://www.acl.gov/Programs/AIDD/Program_Resource_Search/Results_DDC.aspx#resources.

The Department specifically requests comments on: (a) Whether the proposed Collection of information is necessary for the proper performance of the function of the agency, including whether the information shall have practical utility; (b) the accuracy of the agency's estimate of the burden of the proposed collection of information; (c) the quality, utility, and clarity of the information to be collected; (d) ways to minimize the burden information to be collected; and (e) ways to minimize the burden of the collection of information on respondents, including through the use of automated collection technique comments and or other forms of information technology. Consideration will only be given to comments and suggestions submitted within 60 days of this publication.

Respondents: 57 Protection and Advocacy Systems.

Annual Burden Estimates
Instrument | Number of respondents | Number of responses per respondent | Average burden hours per response | Total burden hours
Protection and Advocacy Annual Program Performance Report and Statement of Goals and Priorities | 57 | 1 | 90 | 5,130

Estimated Total Annual Burden Hours: 5,130.

Dated: August 17, 2016.
Edwin L. Walker,
Acting Administrator and Assistant Secretary for Aging.

[FR Doc. 2016-20161 Filed 8-22-16; 8:45 am]

BILLING CODE 4154-01-P